NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities will hold twenty-two meetings of the Humanities Panel, a federal advisory committee, during November 2019. The purpose of the meetings is for panel review, discussion, evaluation, and recommendation of applications for financial assistance under the National Foundation on the Arts and the Humanities Act of 1965.

DATES: See SUPPLEMENTARY INFORMATION for meeting dates.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: November 1, 2019

This meeting will discuss applications on the topics of Arts and Culture, for the Media Projects: Development Grants, submitted to the Division of Public Programs.

2. DATE: November 4, 2019

This meeting will discuss applications on the topic of Cultural History, for the Media Projects: Production Grants, submitted to the Division of Public Programs.

3. DATE: November 6, 2019

This meeting will discuss applications on the topics of Music and Performing Arts, for the Humanities Collections and Reference Resources grant program, submitted to the Division of Preservation and Access.

4. DATE: November 7, 2019

This meeting will discuss applications on the topic of U.S. History (Political and Military), for the Humanities Collections and Reference Resources grant program, submitted to the Division of Preservation and Access.

5. DATE: November 12, 2019

This meeting will discuss applications on the topic of Art History, for the Public Humanities Projects: Exhibitions (Implementation) grant program, submitted to the Division of Public Programs.

6. DATE: November 14, 2019

This meeting will discuss applications on the topics of Asia, Africa, and Europe, for the Kluge Fellowships, submitted to the Division of Research Programs.

7. DATE: November 14, 2019

This meeting will discuss applications on the topic of History, for the Media Projects: Production Grants, submitted to the Division of Public Programs.

8. DATE: November 14, 2019

This meeting will discuss applications on the topic of U.S. History (African-American), for the Humanities Collections and Reference Resources grant program, submitted to the Division of Preservation and Access.

9. DATE: November 15, 2019

This meeting will discuss applications on for the Public Humanities Projects: Humanities Discussions Grants, submitted to the Division of Public Programs.

10. DATE: November 15, 2019

This meeting will discuss applications on the topic of the Americas, for the Kluge Fellowships, submitted to the Division of Research Programs.

11. DATE: November 18, 2019

This meeting will discuss applications on the topics of Arts and Culture, for the Public Humanities Projects: Exhibitions (Implementation) grant program, submitted to the Division of Public Programs.

12. DATE: November 18, 2019

This meeting will discuss applications for the Humanities Connections Implementation Grants, submitted to the Division of Education Programs.

13. DATE: November 19, 2019

This meeting will discuss applications for the Humanities Connections Implementation Grants, submitted to the Division of Education Programs.

14. DATE: November 19, 2019

This meeting will discuss applications on the topics of American History and Culture, for the Public Humanities Projects: Exhibitions (Implementation) grant program, submitted to the Division of Public Programs.

15. DATE: November 19, 2019

This meeting will discuss applications on the topic of Indigenous Studies, for the Humanities Collections and Reference Resources grant program, submitted to the Division of Preservation and Access.

16. DATE: November 20, 2019

This meeting will discuss applications for the Humanities Connections Planning Grants, submitted to the Division of Education Programs.

17. DATE: November 21, 2019

This meeting will discuss applications for the Humanities Connections Planning Grants, submitted to the Division of Education Programs.

18. DATE: November 21, 2019

This meeting will discuss applications on the topic of World Studies (Modern), for the Humanities Collections and Reference Resources grant program, submitted to the Division of Preservation and Access.

19. DATE: November 21, 2019

This meeting will discuss applications for the Humanities Connections Planning Grants, submitted to the Division of Education Programs.

20. DATE: November 22, 2019

This meeting will discuss applications for the Humanities Connections Planning Grants, submitted to the Division of Education Programs.

21. DATE: November 22, 2019

This meeting will discuss applications on the topic of U.S. History (Pre-1900), for the Humanities Collections and Reference Resources grant program, submitted to the Division of Preservation and Access.

22. DATE: November 25, 2019

This meeting will discuss applications for the Humanities Connections Planning Grants, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: October 17, 2019.
Caitlin Cater,
Attorney-Advisor, National Endowment for the Humanities.

[FR Doc. 2019-23045 Filed 10-22-19; 8:45 am]

BILLING CODE 7536-01-P